DEPARTMENT OF EDUCATION

34 CFR Parts 600, 602, 668, 673, 674, 682, and 685

Federal Student Aid Programs (Student Assistance General Provisions, Federal Perkins Loan Program, William D. Ford Federal Direct Loan Program, and Federal-Work Study Programs)

AGENCY: Office of Postsecondary Education, Department of Education.

ACTION: Updated waivers and modifications of statutory and regulatory provisions; correction.

SUMMARY: On December 11, 2020, the Department of Education published in the Federal Register a notice updating waivers and modifications of statutory and regulatory provisions governing the Federal student financial aid programs under the authority of the Higher Education Relief Opportunities for Students Act of 2003 (HEROES Act). This document corrects the date through which certain waivers and modifications extend.

DATES: Effective January 19, 2021.

FOR FURTHER INFORMATION CONTACT: Barbara Hoblitzell, by telephone: (202) 453-7583 or by email: Barbara.Hoblitzell@ed.gov, or Gregory Martin, by telephone: (202) 453-7535 or by email: Gregory.Martin@ed.gov.

If you use a telecommunications device for the deaf (TDD) or text telephone (TTY), call the Federal Relay Service (FRS), toll free, at 1-800-877-8339.

SUPPLEMENTARY INFORMATION: Corrections: In FR document 2020-27042, appearing on page 79856 in the Federal Register of December 11, 2020, the following corrections are made:

1. On page 79857, in the third column, in the third paragraph, in the third sentence, remove the word “further”, and add a new fourth sentence “On December 4, 2020, the Secretary further extended those benefits through January 31, 2021.”

2. On page 79862, in the first column, in the section titled “Repayment of a Loan (34 CFR 682.209)”, remove the fifth sentence and add in its place “Following the President's Memorandum of August 8, 2020, and the Secretary's subsequent announcement on December 4, 2021, the Secretary is further extending until January 31, 2021, in accordance with the prior announcement, the waivers of the regulatory provisions in §§ 682.202 and 682.209 that require that interest be charged on FFEL loans held by the Department from March 13, 2020, through March 27, 2020, and from October 1, 2020 through January 31, 2021.”

3. On page 79862, in the second column, in the section titled “Obligation to Repay (34 CFR 685.207)”, remove the fifth, sixth, and seventh sentences and add in their place “The period of this benefit was extended to December 31, 2020 by the President's Memorandum of August 8, 2020. On December 4, 2020, the Secretary further extended the period of this benefit through January 31, 2021. Accordingly, Direct Loans are automatically placed in an administrative forbearance status that is currently scheduled to be in effect from March 13, 2020, through January 31, 2021.”

4. On page 79863, in the first column, in the section titled “Capitalization of Interest Under the Income-Contingent Repayment Plan (34 CFR 685.209)”, in the second paragraph, remove “January” and add in its place “February”.

5. On page 79863, in the first column, in the section titled “Capitalization of Interest Under the Income-Contingent Repayment Plan (34 CFR 685.209)”, in the fourth paragraph, remove “December 31, 2020” and add in its place “January 31, 2021”.

6. On page 79863, in the second column, in the section titled “Section 3513 of the CARES Act”, remove the second paragraph and add in its place “On August 8, 2020, the President issued a memorandum directing the Secretary to continue to waive interest and payments on such loans until December 31, 2020. On December 4, 2020, the Secretary further extended these benefits through January 31, 2021. Therefore, in accordance with the prior announcement, the Secretary is using her authority under the HEROES Act to modify the terms of the benefits provided under section 3513 of the CARES Act such that they will continue to be provided to borrowers until January 31, 2021.”

Accessible Format: On request to one of the program contact persons listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at: www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Robert L. King,
Assistant Secretary for the Office of Postsecondary Education.

[FR Doc. 2020-28105 Filed 1-15-21; 8:45 am]

BILLING CODE 4000-01-P